NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 11, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-10-7, 9 items, 3 temporary items). Records related to geographic information systems and sign and poster guidelines. Proposed for permanent retention are fire dispatch logs, land transfer case files, records of high-level officials, historically significant accident investigations, special maps, and land surveys.

2. Department of Agriculture, Forest Service (N1-95-12-2, 4 items, 4 temporary items). Records related to the construction and administration of research facilities.

3. Department of the Army, Agency-wide (N1-AU-10-36, 1 item, 1 temporary item). Master files of an electronic information system used to track real property permits, leases, and licenses.

4. Department of the Army, Agency-wide (N1-AU-10-98, 3 items, 3 temporary items). Records related to reimbursements for medical treatment at military facilities.

5. Department of Health and Human Services, Centers for Medicare & Medicaid Services (DAA-0440-2012-0018, 2 items, 2 temporary items). Master files of electronic information systems related to the Medicaid Drug Rebate Program.

6. Department of Homeland Security, U.S. Citizenship and Immigration Services (N1-566-12-5, 2 items, 2 temporary items). User accounts and associated information in an electronic information system used to file immigration benefits.

7. Department of Homeland Security, U.S. Citizenship and Immigration Services (N1-566-12-6, 2 items, 2 temporary items). Master files of an electronic information system used to process immigration applications and petitions.

8. Department of the Interior, Bureau of Ocean Energy Management (N1-589-12-1, 23 items, 22 temporary items). Records documenting administrative activities including budget, human resources, facilities, audit, and litigation. Proposed for permanent retention is general correspondence of the director.

9. Department of the Interior, Bureau of Safety and Environmental Enforcement (N1-473-12-1, 23 items, 22 temporary items). Records documenting administrative activities including budget, human resources, facilities, audit, and litigation. Proposed for permanent retention is general correspondence of the director.

10. Department of Justice, Agency-wide (DAA-0060-2013-0002, 2 items, 2 temporary items). Original content and posting log for third-party social media sites.

11. Department of Justice, Drug Enforcement Administration (N1-170-12-4, 1 item, 1 temporary item). Freedom of Information Act and Privacy Act administrative and litigation records.

12. Department of Labor, Wage and Hour Division (N1-155-11-3, 16 items, 14 temporary items). Records documenting mission-related activities such as registrations, wage determinations, sanctions, penalties, and training materials. Proposed for permanent retention are significant enforcement intervention records and agreements.

13. Department of the Navy, Agency-wide. (DAA-0428-2012-0003, 6 items, 6 temporary items). Correspondence and related records regarding instructors and the administration of Reserve Officers Training Corps and similar programs in secondary schools.

14. Department of the Treasury, Financial Crimes Enforcement Network (N1-559-10-1, 4 items, 4 temporary items). Master files and inputs of an electronic information system used to collect information to investigate financial crimes.

15. Department of the Treasury, Internal Revenue Service (DAA-0058-2013-0003, 1 item, 1 temporary item). Records used to monitor content and communication on social networking sites where interaction between site users and the agency occurs.

16. Department of the Treasury, Internal Revenue Service (DAA-0058-2013-0004, 1 item, 1 temporary item). Master files of an electronic information system used to review electronic tax returns.

17. Administrative Office of the United States Courts, United States Court of Federal Claims (N1-502-11-1, 8 items, 2 temporary items). Vaccine and general jurisdiction case files not deemed to have historic value. Proposed for permanent retention are significant vaccine case files, Indian claims case files, files for general jurisdiction cases terminating during or after trial, and Congressional reference case files and final reports.

18. Federal Communications Commission, International Bureau (N1-173-11-7, 22 items, 22 temporary items). Master files, inputs, and outputs of an electronic information system used to track applications, final authorizations, and related documents for services regulated by the agency. Applications include information such as filer identification, verifying documentation, and forms.

19. Federal Communications Commission, Media Bureau (N1-173-11-3, 1 item, 1 temporary item). Master files of an electronic information system concerning commercial television broadcast licensees' reporting on children's television programming.

Dated: March 5, 2013.
Paul M. Wester, Jr.,
Chief Records Officer for the U.S. Government.

[FR Doc. 2013-05605 Filed 3-11-13; 8:45 am]

BILLING CODE 7515-01-P